ENVIRONMENTAL PROTECTION AGENCY

[FRL-8218-4]

Proposed CERCLA Administrative Agreement for Recovery of Remedial Design Response Costs; Del Amo Superfund Site, Waste Pits Operable Unit

AGENCY: Environmental Protection Agency (EPA).

ACTION: Notice; request for public comment.

SUMMARY: In accordance with Section 122(i) of the Comprehensive Environmental Response, Compensation, and Liability Act, as amended by the Superfund Amendments and Reauthorization Act (“CERCLA”), 42 U.S.C. 9622(i), notice is hereby given of a proposed Agreement for Recovery of Response Costs (“Agreement,” Region 9 Docket No. 9-2006-0016) pursuant to Section 122(h) of CERCLA concerning the Del Amo Superfund Site, Waste Pits Operable Unit (the “Site”), located in Los Angeles, California. The settling parties to the Agreement are Shell Oil Company and the United States General Services Administration.

The Agreement fully compensates EPA for past response costs related to the remedial design of the Waste Pits Operable Unit of the Del Amo Site. The settling parties performed work on the remedial design pursuant to a 1998 Unilateral Administrative Order (“UAO”). The UAO did not provide for the recovery of EPA oversight costs. The Agreement provides for a total recovery of $1,208,551.25. The Agreement also provides the settling parties with contribution protection under CERCLA 113(f)(2) for response cost paid under the Agreement.

For thirty (30) days following the date of publication of this Notice, the Agency will receive written comments relating to the proposed Agreement. The Agency's response to any comments will be available for public inspection at the Agency's Region IX offices, located at 75 Hawthorne Street, San Francisco, California 94105.

DATES: Comments must be submitted on or before October 12, 2006.

ADDRESSES: The proposed Agreement may be obtained from Judith Winchell, Docket Clerk, telephone (415) 972-3124. Comments regarding the proposed Agreement should be addressed to Judith Winchell (SFD-7) at United States EPA Region IX, 75 Hawthorne Street, San Francisco, California 94105, and should reference the Del Amo Superfund Site, Waste Pits Operable Unit Los Angeles, California, and USEPA Docket No. 9-2006-0016.

FOR FURTHER INFORMATION CONTACT: Michele Benson, Office of Regional Counsel, telephone (415) 972-3918, U.S. EPA Region IX, 75 Hawthorne Street, San Francisco, California 94105.

Dated: August 30, 2006.
Keith A. Takata,
Director, Superfund Division, Region 9.

[FR Doc. E6-15085 Filed 9-11-06; 8:45 am]

BILLING CODE 6560-50-P